DEPARTMENT OF HEALTH AND HUMAN SERVICES

Administration for Community Living

Single-Source Supplement for the Amputee Coalition of America, Inc. for the National Limb Loss Resource Center Cooperative Agreement

ACTION: Announcing the Intent to Award a Single-Source Supplement for the Amputee Coalition of America, Inc. for the National Limb Loss Resource Center cooperative agreement.

SUMMARY: The Administration for Community Living (ACL) announces the intent to award a single-source supplement to the current cooperative agreement held by the Amputee Coalition of America, Inc. for the National Limb Loss Resource Center (NLLRC). The purpose of this project is to expand on current grant activities occurring across communities. These activities include programs that promote independence, community living, and the adoption of healthy behaviors that promote wellness and prevent and/or reduce chronic conditions associated with limb loss and increase partnerships and collaborations with ACL programs that will benefit all people living with limb loss or limb differences. The administrative supplement for FY 2021 will be for $487,857 bringing the total award for FY 2021 to $3,883,387.

FOR FURTHER INFORMATION CONTACT: For further information or comments regarding this program supplement, contact Elizabeth Leef, U.S. Department of Health and Human Services, Administration for Community Living, Administration on Disabilities, Office of Disability Services Innovation: telephone (202)-475-2486 email: Elizabeth.leef@acl.hhs.gov.

SUPPLEMENTARY INFORMATION: The additional funding will not be used to begin new projects. The funding will be used to enhance and expand existing programs that can serve an increased number of veterans and people living with limb loss and limb differences by providing increased technical assistance activities; promoting health and wellness programs; addressing healthcare access issues, including maternity care; promoting the adoption of healthy behaviors with the objective of preventing and/or reducing chronic conditions associated with limb loss; increasing partnerships and collaborations with ACL programs that will benefit all people living with limb loss or limb differences; enhancing and expanding the evaluation activities currently under way; and enhancing website capacities for improved information dissemination.

Program Name: National Limb Loss Resource Center.

Recipient: The Amputee Coalition of America, Inc.

Period of Performance: The supplement award will be issued for the third year of the five-year project period of April 1, 2019, through March 29, 2024.

Total Supplement Award Amount: $487,857 in FY 2021.

Award Type: Cooperative Agreement Supplement.

Statutory Authority: This program is authorized under Section 317 of the Public Health Service Act (42 U.S.C. 247(b-4)); Consolidated and Further Continuing Appropriations Act, 2015, Public Law 113-235 (Dec. 16, 2014).

Basis for Award: The Amputee Coalition of America, Inc. is currently funded to carry out the objectives of this program, entitled The National Limb Loss Resource Center for the period of April 1, 2019, through March 29, 2024. Almost 2 million Americans have experienced amputations or were born with limb difference and another 28 million people in our country are at risk for amputation. The supplement will enable the grantee to carry their work even further, serving more people living with limb loss and/or limb differences and providing even more comprehensive training and technical assistance in the development of long-term supportive services. The additional funding will not be used to begin new projects or activities. The NLLRC will enhance and expand currently funded activities such as conducting national outreach for the development and dissemination of patient education materials, programs, and services; providing technical support and assistance to community based limb loss support groups; and raising awareness about the limb loss and limb differences communities.

Establishing an entirely new grant project at this time would be potentially disruptive to the current work already well under way. More importantly, the people living with limb loss and limb differences currently being served by this program could be negatively impacted by a service disruption, thus posing the risk of not being able to find the right resources that could negatively impact on health and wellbeing. If this supplement were not provided, the project would be less able to address the significant unmet needs of additional limb loss survivors. Similarly, the project would be unable to expand its current technical assistance and training efforts in NLLRC concepts and approaches, let alone reach beyond traditional providers of services to this population to train more “mainstream” providers of disability services.

Dated: April 19, 2021.
Alison Barkoff,
Administrator and Assistant Secretary for Aging.

[FR Doc. 2021-08449 Filed 4-22-21; 8:45 am]

BILLING CODE 4154-01-P